DEPARTMENT OF ENERGY

Federal Energy Regulatory Commission

[Project Nos. 12060-001, et al.]

Mark R. Frederick; Notice of Surrender of Preliminary Permits

November 20, 2003.

Take notice that the permittee for the subject projects has requested to surrender the preliminary permits due to unfavorable economic conditions in the State of California.

Project No. | Project name | Stream | Expiration Date
12060-001 | Rock Creek | Wise Canal & Rock Creek Lake | 01-31-2005
12073-001 | Wise P/House Outlet | Outflow into Auburn Ravine | 10-31-2004
12085-001 | Halsey Afterbay | Halsey P/House Afterbay | 09-30-2004
12100-001 | Rollins Diversion Dam | Bear River & Bear River Canal | 02-28-2005
12102-001 | Chicago Park P/House | Bear River & Chicago Park Flume | 03-31-2005
12103-001 | Chicago Park Flume | Bear River, Dutch Flat Afterbay & Dutch Flat Flume | 03-31-2005

The permits shall remain in effect through the thirtieth day after issuance of this notice unless that day is a Saturday, Sunday, or holiday as described in 18 CFR 385.2007, in which case each permit shall remain in effect through the first business day following that day. New applications involving these project sites, to the extent provided for under 18 CFR art 4, may be filed on the next business day.

Magalie R. Salas,
Secretary.

[FR Doc. E3-00405 Filed 11-28-03; 8:45 am]

BILLING CODE 6717-01-P